DEPARTMENT OF DEFENSE

Department of the Army, Corps of Engineers

Intent To Prepare a Draft and Final Second Supplemental Environmental Impact Statement for Reach 1A on the Herbert Hoover Dike Major Rehabilitation Project, Martin and Palm Beach Counties

AGENCY: Department of the Army, U.S. Army Corps of Engineers, DOD.

ACTION: Notice of intent.

SUMMARY: The purpose of the project is to reconstruct and rehabilitate Reach 1A of the Herbert Hoover Dike to prevent catastrophic failure of the system to retain the waters of Lake Okeechobee. On July 8 2005, the Jacksonville District, U.S. Army Corps of Engineers (Corps) issued a Final Supplemental Environmental Impact Statement (FSEIS) for the Major Rehabilitation actions proposed for Herbert Hoover Dike (HHD), Reach One. Herbert Hoover Dike is the levee that completely surrounds Lake Okeechobee. On September 23, 2005, a Record of Decision was signed adopting the preferred alternative as the Selected Plan for Reach One.

As plans and specifications were developed for Reach 1, it became apparent that the cut-off wall with seepage berm alternative would not work for all of Reach 1. The alternative for Reach 1A will be a combination of one or more of the following features dependent on the geology and adjacent land factors with the cut-off wall: Seepage Berm, Relief Trench, Soil Replacement Wedge, Relief Wells, Drainage Feature and Sand Columns. Reach 1A of the HHD extends for approximately 4.6 miles within Martin and Palm Beach Counties, from the St. Lucie Canal at Port Mayaca, south to the 10A culvert. The final full design of the cutoff wall and landside rehabilitation feature will include lands outside of the existing ROW. Therefore it is necessary to update the July 2005 SEIS for Reach 1A to include these new landside rehabilitation features and any impacts to lands outside of the existing ROW. Two separate draft and final SEIS's will be developed for the four Subreaches: An SEIS for Subreach 1A will be completed first and a second SEIS for Subreaches 1B, 1C, and 1D will be completed when designs (anticipated late 2009) are available. This study is a cooperative effort between the Corps and the South Florida Water Management District (SFWMD).

ADDRESSES: U.S. Army Corps of Engineers, Planning Division, Environmental Branch, P.O. Box 4970, Jacksonville, FL 32232-0019.

FOR FURTHER INFORMATION CONTACT: Mr. William Porter at (904) 232-3206 or e-mail at William.L.Porter2@usace.army.mil.

SUPPLEMENTARY INFORMATION: a. The proposed action will be the selected plan described in the July 2005 Supplemental Environmental Impact Statement (SEIS) with the additional action of implementing the landside rehabilitation features as needed based on geology and adjacent land factors. The proposed action will not affect the Regulation Schedule for Lake Okeechobee. Land may have to be acquired outside of the existing right-of-way (ROW) and this SEIS will account for any impacts that result due to acquisition of additional real estate.

b. Alternatives to be considered separately for each subdivision of Reach 1 are dependent upon the geology and adjacent land factors with the cut-off wall. Reach 1 is divided into Subreaches A, B, C and D. The alternatives to be implemented include one or more of the following features: Seepage Berm, Relief Trench, Soil Replacement Wedge, Relief Wells, Sand Column and Drainage Feature.

c. A scoping letter will be used to invite comments on alternatives and issues from Federal, State, and local agencies, affected Indian tribes, and other interested private organizations and individuals. A scoping letter was sent in October 2007 in anticipation of writing a single EIS for Reach 1. An additional scoping letter will be sent out in March 2009 to address the change in the process of completing the Reach 1 Environmental Impact Statements. A scoping meeting is not anticipated.

d. A public meeting will be held after release of each of the Draft Second Supplemental EIS's. The public meeting is anticipated to be held in late 2009 for Reach 1A in Clewiston, FL. The exact location, date, and times will be announced in a public notice and local newspapers.

e. A Major Rehabilitation Evaluation Report (MRR) was approved by Congress in the Water Resources Development Act (WRDA) 2000 that addressed the need to repair the aging dike.

Dated: February 23, 2009.
Eric P. Summa,
Chief, Environmental Branch.

[FR Doc. E9-4931 Filed 3-6-09; 8:45 am]

BILLING CODE 3720-58-P